DEPARTMENT OF LABOR

Office of the Secretary

Submission for OMB Review: Comment Request

June 22, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained at http://www.reginfo.gov/public/do/PRAMain, or contact Ira Mills on 202-693-4122 (this is not a toll-free number) or e-mail: Mills.Ira@dol.gov.

Comments should be sent to the Office of Information and Regulatory Affairs, Attn: OMB Desk Officer for U.S. Department of Labor/Employment and Training Administration (ETA), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Revision of a Currently Approved Collection.

Title: Job Corps Health Questionnaire.

OMB Number: 1205-0033.

Frequency: Other; once.

Affected Public: Individuals or households; business or other for-profit; not-for-profit institutions; Federal Government; State, Local, or Tribal govt.

Type of Response: Recordkeeping and reporting.

Number of Respondents: 87,943.

Annual Responses: 87,943.

Average Response Time: 5 minutes.

Total Annual Burden Hours: 7,329.

Total Annualized Capital/Startup Costs: 0.

Total Annual Costs (operating/maintaining systems or purchasing services): 0.

Description: Applicants wishing to enroll in the Job Crops program must first be deemed eligible based on the eligibility criteria as defined in 20 CFR 670.400 and then selected based on the additional selection factors in 20 CFR 670.410. This admission process is carried out by admission counselors. The information on the ETA 6-53 is collected by the admissions counselors to enable the centers to determine the health needs of the applicant. After the admission counselors have determined eligibility and the applicant has been selected for assignment into the Job Corps program, completes the form and sends it with the admission packet to the Job Corps center for review.

Ira L. Mills,
Departmental Clearance Officer/Team Leader.

[FR Doc. E7-12528 Filed 6-27-07; 8:45 am]

BILLING CODE 4510-30-P